DEPARTMENT OF COMMERCE

National Oceanic and Atmospheric Administration

50 CFR Part 679

[Docket No. 101126521-0640-02]

RIN 0648-XA940

Fisheries of the Exclusive Economic Zone Off Alaska; Reallocation of Pollock in the Bering Sea and Aleutian Islands

AGENCY: National Marine Fisheries Service (NMFS), National Oceanic and Atmospheric Administration (NOAA), Commerce.

ACTION: Temporary rule.

SUMMARY: NMFS is reallocating the projected unused amounts of the Aleut Corporation's pollock directed fishing allowance and the Community Development Quota from the Aleutian Islands subarea to the Bering Sea subarea directed fisheries. These actions are necessary to provide opportunity for harvest of the 2012 total allowable catch of pollock, consistent with the goals and objectives of the Fishery Management Plan for Groundfish of the Bering Sea and Aleutian Islands Management Area.

DATES: Effective 1200 hrs, Alaska local time (A.l.t.), January 19, 2012, until the effective date of the final 2012 and 2013 harvest specifications for Bering Sea and Aleutian Islands (BSAI) groundfish, unless otherwise modified or superseded through publication of a notification in the Federal Register.

FOR FURTHER INFORMATION CONTACT: Mary Furuness, (907) 586-7228.

SUPPLEMENTARY INFORMATION: NMFS manages the groundfish fishery in the BSAI exclusive economic zone according to the Fishery Management Plan for Groundfish of the Bering Sea and Aleutian Islands Management Area (FMP) prepared by the North Pacific Fishery Management Council (Council) under authority of the Magnuson-Stevens Fishery Conservation and Management Act. Regulations governing fishing by U.S. vessels in accordance with the FMP appear at subpart H of 50 CFR part 600 and 50 CFR part 679.

In the Aleutian Islands subarea, the portion of the 2012 pollock total allowable catch (TAC) allocated to the Aleut Corporation's directed fishing allowance (DFA) is 15,500 metric tons (mt) and the Community Development Quota (CDQ) is 1,900 mt as established by the final 2011 and 2012 harvest specifications for groundfish in the BSAI (76 FR 11139, March 1, 2011), as adjusted by two inseason adjustments (76 FR 12607, March 8, 2011 and 76 FR 81876, December 29, 2011).

As of January 20, 2012, the Administrator, Alaska Region, NMFS, (Regional Administrator) has determined that 10,500 mt of Aleut Corporation's DFA and 1,900 mt of pollock CDQ in the Aleutian Islands subarea will not be harvested. Therefore, in accordance with § 679.20(a)(5)(iii)(B)(4), NMFS reallocates 10,500 mt of Aleut Corporation's DFA and 1,900 mt of pollock CDQ from the Aleutian Islands subarea to the 2012 Bering Sea subarea allocations. The 1,900 mt of pollock CDQ is added to the 2012 Bering Sea CDQ DFA. The remaining 10,500 mt of pollock is apportioned to the AFA Inshore sector (50 percent), AFA catcher/processor sector (40 percent), and the AFA mothership sector (10 percent). The 2012 pollock incidental catch allowance remains at 32,400 mt. As a result, the harvest specifications for pollock in the Aleutian Islands subarea included in the final 2011 and 2012 harvest specifications for groundfish in the BSAI (76 FR 11139, March 1, 2011) are revised as follows: 5,000 mt to Aleut Corporation's DFA and 0 mt to CDQ pollock. Furthermore, pursuant to § 679.20(a)(5), Table 3 of the final 2011 and 2012 harvest specifications for groundfish in the BSAI (76 FR 11139, March 1, 2011), as adjusted by two inseason adjustments (76 FR 12607, March 8, 2011 and 76 FR 81873, December 29, 2011), is revised to make 2012 pollock allocations consistent with this reallocation. This reallocation results in adjustments to the 2012 Aleut Corporation and CDQ pollock allocations established at § 679.20(a)(5).

Table 3—Final 2011 and 2012 Allocations of Pollock TACS to the Directed Pollock Fisheries and to the CDQ Directed Fishing Allowances (DFA) ¹
[All amounts in metric tons]
Area and sector | 2011 Allocations | 2011 A season ¹: A season DFA | 2011 A season ¹: SCA harvest limit ² | 2011 B season ¹: B season DFA | 2012 Allocations | 2012 A season ¹: A season DFA | 2012 A season ¹: SCA harvest limit ² | 2012 B season ¹: B season DFA
Bering Sea subarea | 1,266,400 | n/a | n/a | n/a | 1,212,400 | n/a | n/a | n/a
CDQ DFA | 127,290 | 50,916 | 35,641 | 76,374 | 121,900 | 48,760 | 34,132 | 73,140
ICA ¹ | 33,804 | n/a | n/a | n/a | 32,400 | n/a | n/a | n/a
AFA Inshore | 552,653 | 221,061 | 154,743 | 331,592 | 529,050 | 211,620 | 148,134 | 317,430
AFA Catcher/Processors ³ | 442,122 | 176,849 | 123,794 | 265,273 | 423,240 | 169,296 | 118,507 | 253,944
Catch by C/Ps | 404,542 | 161,817 | n/a | 242,725 | 387,265 | 154,906 | n/a | 232,359
Catch by CVs ³ | 37,580 | 15,032 | n/a | 22,548 | 35,975 | 14,390 | n/a | 21,585
Unlisted C/P Limit ⁴ | 2,211 | 884 | n/a | 1,326 | 2,116 | 846 | n/a | 1,270
AFA Motherships | 110,531 | 44,212 | 30,949 | 66,318 | 105,810 | 42,324 | 29,627 | 63,486
Excessive Harvesting Limit ⁵ | 193,429 | n/a | n/a | n/a | 185,168 | n/a | n/a | n/a
Excessive Processing Limit ⁶ | 331,592 | n/a | n/a | n/a | 317,430 | n/a | n/a | n/a
Total Bering Sea DFA | 1,105,306 | 442,122 | 309,486 | 663,184 | 1,058,100 | 423,240 | 296,268 | 634,860
Aleutian Islands subarea ¹ | 4,600 | n/a | n/a | n/a | 6,600 | n/a | n/a | n/a
CDQ DFA | 0 | 0 | n/a | 0 |  | 0 | n/a | 0
ICA | 1,600 | 800 | n/a | 800 | 1,600 | 800 | n/a | 800
Aleut Corporation | 3,000 | 3,000 | n/a | 0 | 5,000 | 5,000 | n/a | 0
Bogoslof District ICA ⁷ | 150 | n/a | n/a | n/a | 150 | n/a | n/a | n/a
¹ Pursuant to § 679.20(a)(5)(i)(A), the Bering Sea subarea pollock, after subtraction for the CDQ DFA (10 percent) and the ICA (3 percent), is allocated as a DFA as follows: Inshore sector—50 percent, catcher/processor sector (C/P)—40 percent, and mothership sector—10 percent. In the Bering Sea subarea, 40 percent of the DFA is allocated to the A season (January 20-June 10) and 60 percent of the DFA is allocated to the B season (June 10-November 1). Pursuant to § 679.20(a)(5)(iii)(B)(2)(i) and (ii), the annual AI pollock TAC, after subtracting first for the CDQ directed fishing allowance (10 percent) and second the ICA (1,600 mt), is allocated to the Aleut Corporation for a directed pollock fishery. In the AI subarea, the A season is allocated 40 percent of the ABC and the B season is allocated the remainder of the directed pollock fishery.
² In the Bering Sea subarea, no more than 28 percent of each sector's annual DFA may be taken from the SCA before April 1. The remaining 12 percent of the annual DFA allocated to the A season may be taken outside of SCA before April 1 or inside the SCA after April 1. If less than 28 percent of the annual DFA is taken inside the SCA before April 1, the remainder will be available to be taken inside the SCA after April 1.
³ Pursuant to § 679.20(a)(5)(i)(A)(4), not less than 8.5 percent of the DFA allocated to listed catcher/processors shall be available for harvest only by eligible catcher vessels delivering to listed catcher/processors.
⁴ Pursuant to § 679.20(a)(5)(i)(A)(4)(iii), the AFA unlisted catcher/processors are limited to harvesting not more than 0.5 percent of the catcher/processors sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ The Bogoslof District is closed by the final harvest specifications to directed fishing for pollock. The amounts specified are for ICA only and are not apportioned by season or sector.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the reallocation of AI pollock. Since the pollock fishery is currently open, it is important to immediately inform the industry as to the final Bering Sea subarea pollock allocations. Immediate notification is necessary to allow for the orderly conduct and efficient operation of this fishery; allow the industry to plan for the fishing season and avoid potential disruption to the fishing fleet as well as processors; and provide opportunity to harvest increased seasonal pollock allocations while value is optimum. NMFS was unable to publish a notice providing time for public comment because the most recent, relevant data only became available as of January 6, 2012.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: January 13, 2012.
Steven Thur,
Acting Director, Office of Sustainable Fisheries, National Marine Fisheries Service.

[FR Doc. 2012-993 Filed 1-18-12; 8:45 am]

BILLING CODE 3510-22-P